DEPARTMENT OF THE INTERIOR

Bureau of Reclamation

[RR02312000, 15XR0680A3, RX.04167000.6000000,]

Notice of Intent To Prepare a Draft Environmental Impact Statement for the Long-Term Plan To Protect Adult Salmon in the Lower Klamath River, Humboldt County, California

AGENCY: Bureau of Reclamation, Interior.

ACTION: Notice of intent and scoping meetings.

SUMMARY: The Bureau of Reclamation will prepare an Environmental Impact Statement (EIS) to evaluate the effects of the Long-Term Plan for the Protection of Adult Salmon in the lower Klamath River. The proposed action is to increase lower Klamath River flows to reduce the likelihood, and potentially reduce the severity, of any fish die-off in future years due to crowded holding conditions for pre-spawn adults, warm water temperatures, and presence of disease pathogens as the likely major factors contributing to the adult mortalities. The proposed increased flows would be provided primarily from releases of water stored in Trinity Reservoir on the main stem of the Trinity River, with the potential for some of the flows to be derived from the Klamath River above the confluence with the Trinity River depending on existing hydrologic and related environmental conditions. The purpose of the proposed action is to reduce the likelihood, and potentially reduce the severity, of any Ich epizootic event that could lead to an associated fish die-off in future years. The need is based on the past extensive fish die-off in 2002.

DATES: Submit written comments on the scope of the draft EIS by August 20, 2015. Four public scoping meetings will be held on the following dates and times:

• Wednesday, August 5, 2015, 5:30 to 7 p.m., Arcata, CA.

• Thursday, August 6, 2015, 5:30 to 7 p.m., Weaverville, CA.

• Tuesday, August 11, 2015, 5:30 to 7 p.m., Klamath Falls, OR.

• Wednesday, August 12, 2015, 5:30 to 7 p.m., Sacramento, CA.

ADDRESSES: Send written comments on the scope of the draft EIS, or requests to be added to the EIS mailing list, to Mr. Paul Zedonis, Northern California Area Office, Bureau of Reclamation, 16349 Shasta Dam Boulevard, Shasta Lake, CA 96019; or by email to sha-slo-klamath-LTP@usbr.gov. Environmental documents for the Long-Term Plan EIS will be available for review and download at http://www.usbr.gov/mp/nepa/nepa_projdetails.cfm?Project_ID=22021.

The public scoping meetings will be held at the following locations:

• Arcata—Red Roof Inn, 4975 Valley W Blvd., Arcata, CA 95521.

• Weaverville—Trinity County Library, 351 Main Street, Weaverville, CA 96093.

• Klamath Falls—Shilo Inn, 2500 Almond Street, Klamath Falls, OR 97601.

• Sacramento—Cafeteria Conference Rooms 1001 & 1002, 2800 Cottage Way, Sacramento, CA 95825.

FOR FURTHER INFORMATION CONTACT: Mr. Paul Zedonis, Bureau of Reclamation, 530-275-1554; or by email at sha-slo-klamath@usbr.gov.

SUPPLEMENTARY INFORMATION:

Background

In August and September 2002, an estimated 170,000 fall-run Chinook salmon returned to the Klamath River, and a significant number of adult Chinook salmon (~33,000) and other salmonids died prematurely in the lower Klamath River. This included an estimated 344 coho salmon listed as threatened under the Endangered Species Act. Federal, tribal, and state biologists studying the die-off concluded that: (1) Pathogens Ichthyophthirius multifiliis (Ich) and Flavobacterium columnare (Columnaris) were the primary causes of death to fish; and (2) warm water temperatures, low water velocities and volumes, high fish density, and long fish residence times likely contributed to the disease outbreaks and subsequent mortalities. Flows in the lower Klamath averaged about 2,000 cubic feet per second (cfs) during September 2002.

In 2003, 2004, 2012, and 2013 predictions of large runs of fall-run Chinook salmon to the Klamath River Basin and drier than normal hydrologic conditions prompted the Bureau of Reclamation (Reclamation) to arrange for late-summer flow augmentation to improve environmental conditions in the lower Klamath River to reduce the probability of a disease outbreak. The State Water Resources Board has advised Reclamation that, as the operator of Trinity Dam, Reclamation may bypass and/or release water for various purposes, including releases made to improve instream conditions for the benefit of aquatic resources, without State Board approval. In these years, 38 thousand acre-feet (TAF) of supplemental water was released from Trinity Reservoir in 2003, 36 TAF in 2004, 39 TAF in 2012, and 17.5 TAF in 2013. In 2013 a legal challenge occurred over implementing the flow augmentation action, which subsequently resulted in a delay. Also, accretions were greater than forecasted and ultimately lead to the smaller volume used in that year. General observations regarding the effectiveness of the sustained higher releases are that no significant disease or adult mortalities occurred suggesting flow augmentation was effective at meeting its intended purpose. National Environmental Policy Act (NEPA) reviews (Environmental Assessments) were conducted in each of these years concluding in Findings of No Significant Impacts.

The initial decision in 2014 was to not provide augmentation flows on a preventive basis due to the small run size and lack of any disease outbreak. However, during the first half of August, hydrologic conditions and observed fish health worsened. It was reported the adult return began much earlier than expected, and thousands of fish were stalled at the mouth of Blue Creek on the lower Klamath River mainstem. After consulting with fish agencies, Reclamation determined that an emergency release from Trinity Reservoir was necessary to avert a potentially significant fish loss. In response to a continued and unprecedented concern that a fish die-off was imminent, Reclamation

extended the release of augmentation flows on an emergency basis for a longer duration (and higher magnitude) than in prior years based on the emergency criteria established for the releases. In 2014 the total volume released was 64 TAF. As in prior years of implementing flow augmentation, and despite the unprecedented high incidence of infection, no significant mortalities of fish occurred. In 2014 due to the rapid worsening of conditions in the lower Klamath River and the documented occurrence of disease, NEPA compliance was implemented through the “Emergency” provisions as identified by the Council of Environmental Quality.

In response to the need to provide augmentation flows in several of the past years, and the indication that such flows will be needed in future years, Reclamation committed to developing a long-term plan to address this need along with the appropriate NEPA compliance. Reclamation has determined an EIS is the appropriate level of NEPA compliance for the Long-Term Plan, and will serve as the Lead Agency.

Additional Information

The purpose of the scoping process is to solicit early input from the public regarding the development of reasonable alternatives and potential environmental impacts to be addressed in the EIS for the lower Klamath River Long-Term Plan. Written comments are requested to help identify alternatives and issues that should be analyzed in the EIS. Federal, State and local agencies, Tribes, and the general public are invited to participate in the environmental review process.

Special Assistance for Public Scoping Meetings

Requests for sign language interpretation for the hearing impaired and all other special assistance needs to participate in the meetings may be submitted by any of the following methods at least five working days before the meeting:

• Email to: Mr. Paul Zedonis, sha-slo-klamath-LTP@usbr.gov.

• U.S. Mail to: Mr. Paul Zedonis, Northern California Area Office, Bureau of Reclamation, 16349 Shasta Dam Boulevard, Shasta Lake, CA 96019.

• Telephone: Mr. Paul Zedonis, 530-275-1554.

Public Disclosure

Before including your address, phone number, email address, or other personal identifying information in your comment, you should be aware that your entire comment—including your personal identifying information—may be made publicly available at any time. While you can ask us in your comment to withhold your personal identifying information from public review, we cannot guarantee that we will be able to do so.

Dated: June 12, 2015.
Pablo R. Arroyave,
Deputy Regional Director, Mid-Pacific Region.

[FR Doc. 2015-17208 Filed 7-13-15; 8:45 am]

BILLING CODE 4332-90-P